DEPARTMENT OF ENERGY

Federal Energy Regulatory Commission

[Docket No. CP08-8-000]

Leaf River Energy Center LLC; Notice of Public Scoping Meeting and Site Visit for the Proposed Leaf River Storage Project

January 15, 2008.

The staff of the Federal Energy Regulatory Commission (Commission) will conduct a public scoping meeting and site visit for the Leaf River Storage Project involving construction and operation of natural gas storage and pipeline header facilities by Leaf River Energy Center LLC in Smith, Jasper, and Clarke Counties, Mississippi.

We invite you to attend the public scoping meeting beginning at 7 p.m. (CST) on Tuesday evening, January 29, 2008, to provide environmental comments on the proposed project. Your input will help us determine the issues that need to be evaluated in the environmental assessment. The public scoping meeting will be held at: Heidelberg Multi Purpose Building, 114 West Park Street, Heidelberg, Mississippi 39114, Phone: 601-787-3000.

The Commission staff will also conduct a site visit of the location of the proposed facilities on January 30, 2008. Anyone interested in participating in the site visit may attend, and they must provide their own transportation. The staff will start the site visit on Wednesday, January 30 at approximately 9 a.m. (CST). The Commission staff, company representatives, and interested participants will meet in the parking lot at the following location: Piggly Wiggly, Highway 15, Bay Springs, MS 39422.

Kimberly D. Bose,
Secretary.

[FR Doc. E8-962 Filed 1-18-08; 8:45 am]

BILLING CODE 6717-01-P